DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Flood Mitigation Assistance (eGrants) and Grant Supplemental Information.

OMB Number: 1660-0072.

Abstract: Information sought in this collection will include all of Phase I and part of Phase II of the electronic, web-based application for Flood Mitigation Assistance (FMA) grants through FEMA's eGrant system, including all application information and the financial and program performance reports. The eGrants system is being developed to meet the intent of the eGovernment initiative, authorized by Public Law 106-107 passed on November 20, 1999.

Affected Public: State, Local or Tribal Government and Not For Profit Institutions.

Number of Respondents: 56.

Estimated Time per Respondent: The information collection for FMA through e-Grants in this OMB Approval 1660-0072 is an optional method to the FEMA Grant Administration Forms, currently approved under OMB Approval Number 1660-0025. We expect the availability of e-Grants to reduce the information collection and reporting burden of Grantees; however, since we have only utilized the e-Grants system for one complete funding cycle, we do not have sufficient data available to demonstrate or document the anticipated reduced burden. We expect further funding cycles, and increased familiarity by applicants on the use of the electronic system, to result in a reduced burden for respondents. FEMA will assess any reduction in burden hours, and consequently reduction in cost, to applicants with additional feedback from the FY2005 application cycle.

Grant Application and Reporting Forms Approved under OMB No. 1660-0025
Type of collection forms | Number of respondents | Number of responses/ respondent | Hours per response and recordkeeping | Annual burden hours
| (A) | (B) |  | (A*B*C)
SF-424 (Application face sheet) | 56 | 3 | 45 minutes | 126.0
FEMA Form 20-10—Financial Status Report, Quarterly Progress Report | 56 | 4 | 1 hour | 224.0
FEMA Form 20-16, 20-16A, 20-16B, 20-16C (Summary of assurances & certifications) | 56 | 1 | 1.7 hours | 95.2
SF-LLL (lobbying disclosure) | 56 | 1 | 10 minutes | 9.3
FEMA Form 20-18—Report of Government Property | 56 | 1 | 4.2 hours | 235.2
FEMA 20-19—Report of Unobligated Balance (or substitute) | 56 | 1 | 5 minutes | 4.7
FEMA Form 20-20—Budget—Non-Construction | 56 | 3 | 9.7 hours | 1629.6
FEMA Form 76-10A—Obligating Document For Award/Amendment | 56 | 3 | 1.2 hours | 201.6
Annual Audit & Audit Trail Requirements | 56 | 1 | 30 minutes | 28.0
Total for Standard Forms (SF) & FEMA Forms |  |  |  | 2,554
Grant Supplemental Information—Sub-Grant Applications
Benefit-Cost Determination | 56 | 2 | 5 hours | 560.0
Environmental Review | 56 | 2 | 7.5 hours | 840.0
Project Narrative—Sub-grant Application | 56 | 4 | 12 hours | 2688.0
Total Burden for FMA eGrants and Supplemental Information |  |  |  | 4,088

Estimated Total Annual Burden Hours: 4,088.

Comments: Interested persons are invited to submit written comments on the proposed information collection to the Office of Information and Regulatory Affairs at OMB, Attention: Desk Officer for the Department of Homeland Security/FEMA at e-mail address cmartin@omb.gov or facsimile number (202) 395-7285. Comments must be submitted on or before September 23, 2005. In addition, interested persons may also send comments to FEMA (see contact information below).

FOR FURTHER INFORMATION CONTACT: Requests for additional information or copies of the information collection should be made to Samuel Smith, Acting Chief, Records Management Branch, FEMA at 500 C Street, SW., Room 316, Washington, DC 20472, facsimile number (202) 646-3347, or e-mail address FEMA-Information-Collections@dhs.gov.

Dated: August 18, 2005.
George S. Trotter,
Acting Branch Chief, Information Resources Management Division, Information Technology Services Directorate.

[FR Doc. 05-16824 Filed 8-23-05; 8:45 am]

BILLING CODE 9110-41-P